DEPARTMENT OF THE INTERIOR

Bureau of Land Management

[OR-038-1220-AL 042H; HAG 05-0074]

Notice of Meeting; National Historic Oregon Trail Interpretive Center

AGENCY: Bureau of Land Management (BLM), Vale District, Interior.

ACTION: Meeting Notice for the National Historic Oregon Trail Interpretive Center (NHOTIC) Advisory Board.

SUMMARY: The National Historic Oregon Trail Interpretive Center Advisory Board will meet in a conference room at the Best Western Sunridge Inn (541-523-6444), One Sunridge Way in Baker City, OR from 8 a.m. to 12 p.m., (Pacific Time PT) on Thursday, March 31, 2005.

The meeting topics may include; reports from the Standing Committees (Economic Development, Visitation, Education and Community Liaison), a roundtable to allow members to introduce new issues to the board, and other matters as may reasonably come before the Board. The entire meeting is open to the public. For a copy of the information to be distributed to the Board members, please submit a written request to the Vale District Office 10 days prior to the meeting. Public comment is scheduled for 10 a.m. to 10:15 a.m., Pacific Time (PT).

FOR FURTHER INFORMATION CONTACT: Additional information concerning the NHOTIC Advisory Board may be obtained from Debra Lyons, Public Affairs, Vale District Office, 100 Oregon Street, Vale, OR 97918 (541) 473-3144, or email Debra_Lyons@or.blm.gov.

Dated: February 15, 2005.
Larry Frazier,
Associate District Manager.

[FR Doc. 05-3287 Filed 2-18-05; 8:45 am]

BILLING CODE 4310-33-P